DEPARTMENT OF AGRICULTURE

Forest Service

List of Newspapers To Be Used by the Alaska Region for Publication of Legal Notices of Decisions Subject to Administrative Appeal Under the Optional Appeal Procedures Available During the Planning Rule Transition Period.

AGENCY: Forest Service, USDA.

ACTION: Notice.

SUMMARY: This notice lists the newspapers that Forests and the Regional Office of the Alaska Region will use to publish legal notice of all decisions subject to appeal under the Optional Appeal Procedures Available During the Planning Rule Transition Period (formerly 36 CFR part 217). The intended effect of this action is to inform interested members of the public which newspapers will be used to publish legal notice of decisions subject to appeal during the transition period, thereby allowing them to receive constructive notice of a decision, to provide clear evidence of timely notice, and to achieve consistency in administering the appeals process.

DATES: Publication of legal notices in the listed newspapers begins on July 1, 2010. This list of newspapers will remain in effect until it is superceded by a new list, published in the Federal Register.

ADDRESSES: Ken Post, Appeals Specialist; Forest Service, Alaska Region; P.O. Box 21628; Juneau, Alaska 99802-1628.

FOR FURTHER INFORMATION CONTACT: Ken Post, Appeals Specialist; (907) 586-8796.

SUPPLEMENTARY INFORMATION: This notice provides the list of newspapers that Responsible Officials in the Alaska Region will use to give notice of decisions subject to appeal. The timeframe for appeal under the Optional Appeal Procedures Available During the Planning Rule Transition Period shall be based on the date of publication of the legal notice of the decision in the newspaper of record identified in this notice.

The newspapers to be used for giving notice of Forest Service decisions in the Alaska Region are as follows:

Alaska Regional Office

Decisions of the Alaska Regional Forester: Juneau Empire, published daily except Saturday and official holidays in Juneau, Alaska; and the Anchorage Daily News, published daily in Anchorage, Alaska.

Chugach National Forest

Decisions of the Forest Supervisor: Anchorage Daily News, published daily in Anchorage, Alaska.

Tongass National Forest

Decisions of the Forest Supervisor: Ketchikan Daily News, published daily except Sundays and official holidays in Ketchikan, Alaska.

Supplemental notices may be published in any newspaper, but the timeframes for filing appeals will be calculated based upon the date that notices are published in the newspapers of record listed in this notice.

Dated: May 28, 2010.
Beth G. Pendleton,
Regional Forester.

[FR Doc. 2010-14065 Filed 6-11-10; 8:45 am]

BILLING CODE 3410-11-M